DEPARTMENT OF THE INTERIOR

Bureau of Reclamation

Lake Curry Water Supply Project, Napa and Solano Counties, CA

AGENCY: Bureau of Reclamation, Interior.

ACTION: Notice of intent to prepare a joint environmental impact statement/environmental impact report.

SUMMARY: Pursuant to the National Environmental Policy Act of 1969 as amended, the Bureau of Reclamation proposes to participate in a joint Environmental Impact Statement/Environmental Impact Report (EIS/EIR) with the City of Vallejo on the City's Lake Curry Water Supply Project.

The Lake Curry Water Supply Project is being proposed by the City of Vallejo (City). The City is proposing to resume use of water from the City's Lake Curry for municipal and industrial uses within the City's service area, and is evaluating alternative delivery methods for conveying the water to the City's Fleming Hill Water Treatment Plant in Vallejo for delivery to the City's service area. The City will be the lead agency under the California Environmental Quality Act (CEQA).

DATES: Reclamation and the City will seek public input on alternatives, concerns, and issues to be addressed in the EIS/EIR through scoping meetings to be held as follows:

• Wednesday, September 10, at 7 p.m., Vallejo, CA

• Thursday, September 18, at 7 p.m., Suisun, CA

Written comments on the scope of alternatives and impacts should be submitted by September 15, 2003.

Reclamation estimates that the draft EIS/EIR will be available for public review near the end of 2003.

ADDRESSES: The meeting locations are:

• In Vallejo, CA—Joseph Room, Main Floor, John F. Kennedy Library, 505 Santa Clara Street

• In Suisun, CA—Suisun Fire Protection District's Valley Station, 4965 Clayton Valley Road

Written comments on the scope of alternatives and impacts to be considered should be sent to the Lake Curry Water Supply Project, c/o Ms. Pamela Sahin, Administrative Analyst II, City of Vallejo Utilities Department, Water Division, 202 Fleming Hill Road, Vallejo, CA 94589-2332. Comments may also be submitted via e-mail to Ms. Sahin at waterinfo@ci.vallejo.ca.us.

FOR FURTHER INFORMATION CONTACT: Mr. Rob Schroeder, Resource Manager, U.S. Department of the Interior, Bureau of Reclamation, Central California Area Office, 7794 Folsom Dam Road, Folsom, CA 95630-1799, Telephone number 916-989-7274. Comments may also be submitted via e-mail to Mr. Schroeder at rschroeder@mp.usbr.gov.

SUPPLEMENTARY INFORMATION: The City is proposing to execute and implement a contract with Reclamation to convey the water from Lake Curry through a portion of Reclamation's Putah South Canal to the Terminal Reservoir for delivery to the City.

Reclamation will consult with the National Marine Fisheries Service (NOAA Fisheries) and the U.S. Fish and Wildlife Service regarding potential effects of the action on species designated in accordance with the Federal Endangered Species Act (ESA).

The City was issued a Water Right Permit in 1922 and License 5728 in 1959 by the State for storing and using water in Lake Curry for municipal purposes. Lake Curry was an active and important part of the City's water supply system between 1926 and 1992. The City also served water for domestic and stock watering purposes in Gordon and Suisun Valleys along the existing 24-inch diameter Gordon Valley pipeline, which conveyed the water from Lake Curry to the City. The water was treated at a pressure filtration plant near Lake Curry prior to delivery to the City and to connections outside of the City's service area along the Gordon Valley pipeline.

In 1992, the City was compelled to cease delivering water from Lake Curry to domestic users because of stringent water treatment requirements adopted by the California Department of Health Services. Water from the Lake is currently being released to Suisun Creek at a rate of 2 cfs to 3 cfs.

The City has continued to serve the users in Gordon and Suisun Valleys by conveying water from its Green Valley water treatment and Lakes transmission system, using the existing 24-inch diameter Gordon Valley pipeline and a distribution main.

For several years, the City has pursued the right to use a portion of the Putah South Canal, a Federal facility owned and operated by Reclamation, to convey untreated Lake Curry water to the City's Fleming Hill Water Treatment Plant in Vallejo. In November 2000, Congress authorized Reclamation to enter into a contract to permit use of the lower section of the Solano Project Putah South Canal facilities for such purposes. For the City to use the Putah South Canal and Terminal Reservoir to deliver Lake Curry water to the City, it needs to enter such a contract with Reclamation.

The general purposes of the Lake Curry Water Supply Project are to:

• Resume the use of Lake Curry water supplies for municipal and industrial use in the City

• Manager water releases from Lake curry to restore and maintain a healthy ecosystem in Suisun Creek for steelhead trout populations located downstream of Lake Curry, to the extent required by law

• Continue to provide water service to Gordon and Suisun Valley customers

• Enable the City to convey water to the City's service area by using the available capacity in existing facilities (Putah South Canal) owned by Reclamation

Prior to 1992, the City relief on Lake Curry as an important component of the City's water supply. Since 1992, the City has had to rely solely on its other water supply sources to meet the City's needs and obligations. In addition to its Green Valley System (Lakes Madigan and Frey), the City also has an appropriative right in Barker Slough in the Sacramento-San Joaquin Delta, a contract for Solano Project water delivered through the North Bay Aqueduct. Serving water from Lake Curry is critical to the City in meeting its existing and future demands. Serving water from Lake Curry would also assist in enhancing the City's water supply reliability.

The City's Project

The Lake Curry Water Supply project, as currently envisioned, would consist of:

• The City using its existing 24-inch diameter Gordon Valley Pipeline to convey untreated water from Lake Curry south via gravity flow to the Putah South Canal. Water would then flow through the Canal to the Terminal Reservoir then through existing City infrastructure to the existing Fleming Hill Water Treatment Plant for treatment and distribution to the City's users in its service area.

• The City installing a new 6- to 8-inch diameter water distribution pipeline to convey treated water from the City's existing Green Valley Water Treatment Plant north to Gordon Valley customers and to a new 150,000 to 200,000 gallon storage tank. The tank would be used for storage of treated water. The new pipeline would be installed within the County road right-of-way or within the existing easement of the 24-inch diameter pipeline.

• The City releasing a portion of its untreated water supply from Lake Curry to Suisun Creek for protection and maintenance of endangered species and their habitat in the creek.

With implementation of the Project, the City would be required to:

• Execute and implement a long-term contract with Reclamation, pursuant to 43 U.S.C. section 523 (the Warren Act of 1911) for the conveyance of non-Federal project water from Lake Curry through a 5-mile long portion of the federally owned Putah South Canal ending at the Terminal Reservoir.

• Obtain an easement for the installation of new facilities within the existing Reclamation right-of-way (needed to deliver Lake Curry supplies into the Putah South Canal).

• Obtain easements and approvals/permits from Napa and Solano counties.

• Obtain a General Construction Storm Water Permit from the State Water Resources Control Board.

• Conduct a sanitary survey every 5 years of the Lake Curry watershed.

The EIS/EIR will consider a range of alternatives including a Creek Conveyance Alternative and a No Action alternative.

Creek Conveyance Alternative

The Creek Conveyance Alternative consists of the City releasing and conveying all untreated water from Lake Curry into and long Suisun Creek to the intersection of the Putah South Canal. The water would flow in a southerly direction in the open Suisun Creek channel approximately 7 miles to the Putah South Canal where it would be rediverted for delivery to Terminal Reservoir, then to the City's Fleming Hill Water Treatment Plant. With implementation of this alternative, the City would not use the existing 24-inch diameter pipeline to convey untreated Lake Curry water to Vallejo.

The Creek Conveyance Alternative could potentially increase the volume of Lake Curry water available for the protection of threatened steelhead in Suisun Creek. By conveying all untreated water from Lake Curry to the Canal in the creek channel, the project would conjunctively use the City's water supply for endangered species and their habitat in the creek.

A new water diversion facility (consisting of a small diversion dam, a fish screen protection system, and a pump) would be constructed to redivert water from Suisun Creek to the Putah South Canal. The water would then flow in the Putah South Canal to the Terminal Reservoir, then through the City's existing water transmission facilities to the Fleming Hill Water Treatment Plant for treatment and distribution to the City's service area.

In addition, the Creek Conveyance Alternative includes the continued conveyance of treated water north from the City's existing service system (Green Valley Water Treatment Plant) to customers in Gordon Valley and to a new 150,000 to 200,000 gallon storage tank. The tank would be used for storage of treated water. Conveyance of the treated water could be achieved by three different methods. These three methods are described below as Options 1, 2, and 3.

Option 1: This treated water conveyance option includes the continued use of the City's existing 24-inch diameter distribution pipeline to convey treated water from the City's existing service system (Green Valley Water Treatment Plant) to customers in Gordon Valley and to the new water storage tank to be added.

Option 2: This treated water conveyance option includes installation of a 6- to 8-inch diameter pipeline to convey treated water from the City's Green Valley Water Treatment Plant to customers in Gordon Valley and to the new water storage tank. The new pipeline would be installed within the right-of-way of the existing 24-inch diameter pipeline.

Option 3: This treated water conveyance option includes installation of a 6- to 8-inch diameter pipeline to convey treated water from the City's existing service system (Green Valley Water Treatment Plant) to customers in Gordon Valley and to the new water storage tank. The new pipeline would be installed with the existing 24-inch diameter pipeline. The 24-inch diameter pipeline would no longer be used to convey water. Its sole purpose would be to protect the smaller water distribution pipeline that is installed within it.

With implementation of this Creek Conveyance Alternative, regardless of which option is selected, the City would also be required to do the following:

• Construct a new rediversion structure in Suisun Creek, and obtain approval from the State Water Resources Control Board (SWRCB).

• Execute and implement a long-term contract with Reclamation, pursuant to 43 U.S.C. Section 523 (the Warren Act of 1911) for the conveyance of non-Federal water from Lake Curry through a 5-mile long portion of the federally owned Putah South Canal ending at the Terminal Reservoir.

• Obtain an easement for the installation of new facilities within the existing Reclamation right-of-way (needed to pump Lake Curry supplies to the Putah South Canal).

• Obtained required easements and approvals/permits from Napa and Solano counties.

• Obtain a Section 1603 permit from the California Department of Fish and Game for streambed alterations required for installation of the rediversion facility.

• Obtain a General Construction Storm Water permit from the California State Water Resources Control Board.

• Obtain a Section 404 Permit from the U.S. Army Corps of Engineers.

• Obtain a Section 401 Water Quality Certification/Waiver from the California Regional Water Quality Control Board.

• Conduct a sanitary survey every 5 years of the Lake Curry watershed, and Wooden Valley Creek and all other creeks tributary to Suisun Creek above the point of rediversion.

In addition, with implementation of this alternative, regardless of which option is selected, the City may elect to do the following:

• File a Water Code Section 17017 Water Right Change petition with the SWRCB to provide for the use of the water for fishery and habitat use, and to enable the City to protect the water in the creek from the Gordon Valley Dam downstream to a new point of rediversion of Suisun Creek.

No Project Alternative

The No Project Alternative consists of the City continuing to release water from Lake Curry to Suisun Creek. The purposes of the release are three-fold: (1) To approximate the amount of water that was withdrawn from the lake for municipal and industrial uses prior to 1992, (2) to conserve cold water stored in the lake, and (3) to provide the downstream flood protection that was available from Lake Curry operation prior to 1992.

The No Project Alternative also includes continuation of the City's current operation of the existing 24-inch diameter Gordon Valley Pipeline. Treated water from the City's existing Green Valley Water Treatment Plant would be pumped north in the 24-inch diameter distribution pipeline to customers in Gordon Valley.

Scoping is an early and open process designed to determine the issues and alternatives to be addressed in the EIS/EIR. The following are issues that have been identified to date: Potential effects on steelhead trout populations; potential effects on wetland, upland, and aquatic habitats; potential effects on special-status vegetation and wildlife species; potential construction-related effects on Suisun Creek, along Gordon Valley Road, and natural habitats and residents (including water quality, noise, air quality, and transportation/traffic effects); and potential effects on cultural resources.

The draft EIS/EIR will focus on the impacts and benefits of implementing the various alternatives. It will contain an analysis of the physical, biological, social, and economic impacts arising from the alternatives. In addition, it will address the cumulative impacts of implementation of the alternatives in conjunction with other past, present, and reasonably foreseeable actions.

If special assistance is required at the scoping meetings, contact Mr. Robert Schroeder at Reclamation 916-989-7274. Please notify Mr. Schroeder as far in advance of the workshops as possible to enable Reclamation to secure the needed services. If a request cannot be honored, the requestor will be notified. A telephone device for the hearing impaired (TDD) is available at 916-989-7275.

Our practice is to make comments, including names and home addresses of respondents, available for public review. Individual respondents may request that we withhold their home address from public disclosure, which we will honor to the extent allowable by law. There also may be circumstances in which would withhold a respondent's identity from public disclosure, as allowable by law. If you wish us to withhold your name and/or address, you must state this prominently at the beginning of your comment. We will make all submissions from organizations or business, and from individuals identifying themselves as representatives or officials of organizations or businesses, available for public disclosure in their entirety.

Dated: July 7, 2003.
Frank Michny,
Regional Environmental Officer Mid-Pacific Region.

[FR Doc. 03-20708 Filed 8-13-03; 8:45 am]

BILLING CODE 4310-MN-M